DEPARTMENT OF ENERGY

Federal Energy Regulatory Commission

[Docket No. EL01-41-000]

Strategic Energy L.L.C. v. California Independent System Operator Corporation; Notice of Complaint

March 2, 2001.

Take notice that on February 28, 2001, Strategic Energy L.L.C. (Strategic Energy) submitted a complaint requesting fast track processing against the California Independent System Operator Corporation (ISO) pursuant to Section 206 of the Federal Power Act, 16 U.S.C. § 824e, and Section 206 of the Commission's Rules of Practice and Procedure, 18 CFR 385.206. Strategic Energy requests that the Commission: (i) direct the ISO immediately to provide information to support its claim for costs under Section 11.2.4.2.1 of the ISO tariff, as required by Section 11.4.3 of the ISO tariff; and (ii) clarify that if the ISO enters into a forward contract during a scheduling interval for power to be delivered in a later scheduling interval, the costs of the forward contract are recoverable only for the scheduling interval in which power is to be delivered. Strategic Energy also seeks interim relief and requests that the Commission (i) issue an interim order permitting Strategic Energy to deposit the contested portion of its bill into an interest bearing escrow account on or before March 5, 2001 and declaring that, in so doing, the Strategic Energy will not be in default of its obligations under the ISO tariff; and (ii) issue its ruling on this complaint on or before March 5, 2001 to ensure that Strategic Energy will not, under any circumstances, be in violation of its obligations under the ISO tariff.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before March 20, 2001. Protests will be considered by the Commission in determining the appropriate action to be taken, but will not serve to make protestants parties to the proceeding. Any person wishing to become a party must file a motion to intervene. Copies of this filing are on file with the Commission and are available for public inspection in the Public Reference Room. This filing may also be viewed on the Internet at http://www.ferc.fed.us/online/rims.htm (call 202-208-2222) for assistance. Answers to the complaint shall also be due on or before March 20, 2001. Comments and protests may be filed electronically via the internet in lieu of paper. See, 18 CFR 385.2001(a)(1)(iii) and the instructions on the Commission's web site at http://www.ferc.fed.us/efi/doorbell.htm.

Linwood A. Watson, Jr.,
Acting Secretary.

[FR Doc. 01-5678 Filed 3-7-01; 8:45 am]

BILLING CODE 6717-01-M